FEDERAL COMMUNICATIONS COMMISSION

[Report No. AUC-03-53-C (Auction No. 53); DA 03-1544]

Auction of Multichannel Video Distribution and Data Service Licenses (Auction No. 53) Is Postponed

AGENCY: Federal Communications Commission.

ACTION: Notice.

SUMMARY: This document announces the postponement of Auction No. 53.

DATES: Auction No. 53 which was scheduled to begin on June 25, 2003 is postponed.

FOR FURTHER INFORMATION CONTACT: Brian Carter of the Auctions and Industry Analysis Division or Jennifer Burton of the Public Safety and Private Wireless Division at (202) 418-0660.

SUPPLEMENTARY INFORMATION: The auction of licenses in the Multichannel Video Distribution and Data Service (“MVDDS”) (Auction No. 53), previously scheduled to begin on June 25, 2003, will be delayed pending Commission resolution of the Second Further Notice of Proposed Rule Making in ET Docket No. 98-206, RM-9147, and RM-9245 (“FNPRM”) 68 FR 19486 (April 21, 2003). Following release of the Commission's order acting on the FNPRM, the Wireless Telecommunications Bureau will release a public notice announcing key dates for Auction No. 53.

Federal Communications Commission.
Margaret Wiener,
Chief, Auctions and Industry Analysis Division, WTB.

[FR Doc. 03-13070 Filed 5-23-03; 8:45 am]

BILLING CODE 6712-01-M